DEPARTMENT OF THE INTERIOR

Bureau of Land Management

[OR128-6332 02-0121]

Road Closure to Motorized Public Access

AGENCY: Bureau of Land Management, U.S. Department of Interior.

ACTION: Notice of road closure.

SUMMARY: Closure of 0.46 miles of Bureau of Land Management (BLM) Road No. 29-11-24.0 to motorized public access, which is within Township 29 South, Range 11 West, Sections 23 and 24, Williamette Meridian, in the Coos Bay District, Coos County, Oregon. This action is intended to prevent unauthorized entry of motorized vehicles onto meadow areas which can be accessed using BLM Road No. 29-11-24.0, while continuing to allow for pedestrian, equestrian and bicycle use of the road.

EFFECTIVE DATE: Road closure is effective immediately and extends indefinitely.

ADDRESSES: Bureau of Land Management, Coos Bay District Office, 1300 Airport Lane, North Bend, Oregon, 97459.

FOR FURTHER INFORMATION CONTACT: Stephan R. Samuels, Team Lead, (541) 751-4244.

SUPPLEMENTARY INFORMATION: This action is being taken at the request of the Coquille Indian Tribe, to prevent further degradation of culturally-sensitive meadow areas on the Coquille Forest which can be accessed by motorized vehicle from BLM Road No. 29-11-24.0. Exceptions to this closure include motorized vehicle use for administrative and emergency purposes and for permittees. The authorized officer may issue a permit allowing motorized vehicle access into the area for specific purposes. This closure order is in accordance with provisions of the Federal Land Policy and Management Act of 1976 (43 U.S.C. 1701) and 43 CFR 8364.1.

Dated: March 26, 2002.
Mark E. Johnson,
Acting Coos Bay District Manager.

[FR Doc. 02-12584 Filed 5-17-02; 8:45 am]

BILLING CODE 4310-33-P